FEDERAL COMMUNICATIONS COMMISSION

47 CFR Part 73

[DA 01-381, MM Docket No. 99-268, RM-9691]

Digital Television Broadcast Service; Chattanooga, TN

AGENCY: Federal Communications Commission.

ACTION: Final rule.

SUMMARY: The Commission, at the request of Sarkes Tarzian, Inc., licensee of station WRCB-TV, NTSC channel 3, substitutes DTV channel 13 for DTV channel 55 at Chattanooga, Tennessee. See 64 FR 45500, August 20, 1999. DTV channel 13 can be allotted to Chattanooga in compliance with the principal community coverage requirements of Section 73.625(a) at reference coordinates (35-09-40 N. and 85-18-52 W.) with a power of 37.0, HAAT of 325 meters and with a DTV service population of 915 thousand.

With this action, this proceeding is terminated.

DATES: Effective April 2, 2001.

FOR FURTHER INFORMATION CONTACT: Pam Blumenthal, Mass Media Bureau, (202) 418-1600.

SUPPLEMENTARY INFORMATION: This is a synopsis of the Commission's Report and Order, MM Docket No. 99-268, adopted February 15, 2001, and released February 16, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

47 CFR PART 73—[AMENDED]

1. The authority citation for Part 73 continues to read as follows:

Authority: 47 U.S.C. 154, 303, 334, 336.

§ 73.622 [Amended]

2. Section 73.622(b), the Table of Digital Television Allotments under Tennessee, is amended by removing DTV channel 55 and adding DTV channel 13 at Chattanooga.

Federal Communications Commission.
Barbara A. Kreisman,
Chief, Video Services Division, Mass Media Bureau.

[FR Doc. 01-4326 Filed 2-21-01; 8:45 am]

BILLING CODE 6712-01-P